DEPARTMENT OF ENERGY

Federal Energy Regulatory Commission

[Docket No. CP07-30-003]

Petal Gas Storage, L.L.C.; Notice of Application

July 9, 2009.

Take notice that on June 29, 2009, Petal Gas Storage, L.L.C (Petal), 1100 Louisiana Street, Houston, Texas 77002, filed with the Federal Energy Regulatory Commission a motion for reconsideration of Engineering Condition No. 5 of the Commission's March 28, 2007 order in the above-referenced docket. The motion requests permission to implement a Well and Cavern Integrity Monitoring Program in lieu of the well logging and sonar surveys required by Engineering Condition No. 5, as modified on rehearing. The motion for reconsideration will be treated as an application for amendment of Petal's existing certificate authority. The application is on file with the Commission and open to public inspection. The filing may also be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659

Any questions regarding the application should be directed to Richard Porter, Petal Gas Storage, L.L.C, 1100 Louisiana Street, Houston, Texas 77002, (telephone) (713) 381-2526, (fax) (713) 803-2534, rporter@eprod.com.

Pursuant to Section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (http://www.ferc.gov) under the “e-Filing” link.

Comment Date: July 30, 2009.

Kimberly D. Bose,
Secretary.

[FR Doc. E9-16853 Filed 7-15-09; 8:45 am]

BILLING CODE 6717-01-P